DEPARTMENT OF STATE

[Public Notice 9061]

Removal of Sanctions on Person on Whom Sanctions Have Been Imposed Under the Iran Sanctions Act of 1996, as Amended

AGENCY: Department of State.

ACTION: Notice.

SUMMARY: The Secretary of State has decided to terminate sanctions imposed under the Iran Sanctions Act of 1996 (Pub. L. 104-172) (50 U.S.C. 1701 note) (“ISA”), as amended, on Republican Unitary Enterprise Production Association Belarusneft (a.k.a. Belarusneft, a.k.a. Belorusneft) on the basis that the company is no longer engaging in sanctionable activity described in section 5(a)[(1)?] of and that this person has provided reliable assurances that it will not knowingly engage in such activities in the future. Therefore, certain sanctions that were imposed on Belarusneft on March 29, 2011 are no longer in effect.

DATES: Effective Date: The sanctions on Belarusneft are lifted effective February 25, 2015.

FOR FURTHER INFORMATION CONTACT: On general issues: Office of Sanctions Policy and Implementation, Department of State, Telephone: (202) 647-7489.

SUPPLEMENTARY INFORMATION: On March 29, 2011, the Secretary of State made a determination to impose certain sanctions on, inter alia, Republican Unitary Enterprise Production Association Belarusneft (a.k.a. Belarusneft, a.k.a. Belorusneft) under the Iran Sanctions Act of 1996, as amended (Pub. L. 104-172) (50 U.S.C. 1701 note). See 76 FR 18821 (April 5, 2011). Additional information regarding the basis for imposing sanctions and the specific sanctions imposed on Belarusneft is contained in the Federal Register notice cited above.

Pursuant to section 9(b)(1) of ISA and the authority delegated to the Secretary of State in the Delegation Memorandum, the Secretary now has decided to terminate sanctions on Belarusneft on the basis that the company is no longer engaging in sanctionable activity described in section 5(a) of ISA, and that this person has provided reliable assurances that they will not knowingly engage in such activities in the future. The sanctions on Belarusneft, therefore, are no longer in effect.

Pursuant to the authority delegated to the Secretary of State in the Delegation Memorandum, relevant agencies and instrumentalities of the United States Government shall take all appropriate measures within their authority to carry out the provisions of this notice.

The following constitutes a current, as of this date, list of persons on whom sanctions are imposed under ISA. The particular sanctions imposed on an individual person are identified in the relevant Federal Register Notice.

—Bimeh Markazi-Central Insurance of Iran (See Public Notice 8268, 78 FR 21183, April 9, 2013)

—Cambis, Dimitris (See Public Notice 8268, 78 FR 21183, April 9, 2013)

—FAL Oil Company Limited (see Public Notice 7776, 77 FR 4389, January 27, 2012)

—Ferland Company Limited (See Public Notice 8352, 78 FR 35351, June 12, 2013)

—Impire Shipping (See Public Notice 8268, 78 FR 21183, April 9, 2013)

—Jam Petrochemical Company (See Public Notice 8352 78 FR 35351, June 12, 2013)

—Kish Protection and Indemnity (a.k.a. Kish P&I) (See Public Notice 8268, 78 FR 21183, April 9, 2013)

—Kuo Oil (S) Pte. Ltd. (see Public Notice 7776, 77 FR 4389, January 27, 2012)

—Naftiran Intertrade Company (see Public Notice 7197, 75 FR 62916, October 13, 2010)

—Niksima Food and Beverage JLT (See Public Notice 8352, 78 FR 35351, June 12, 2013)

—Petrochemical Commercial Company International (a.k.a. PCCI) (see Public Notice 7585, 76 FR 56866, September 14, 2011)

—Petróleos de Venezuela S.A. (a.k.a. PDVSA) (see Public Notice 7585, 76 FR 56866, September 14, 2011)

—Royal Oyster Group (see Public Notice 7585, 76 FR 56866, September 14, 2011)

—Speedy Ship (a.k.a. SPD) (see Public Notice 7585, 76 FR 56866, September 14, 2011)

—Sytrol (see Public Notice 8040, 77 FR 59034, September 25, 2012)

—Zhuhai Zhenrong Company (see Public Notice 7776, 77 FR 4389, January 27, 2012)

Dated: March 4, 2015.
Kurt W. Tong,
Acting Assistant Secretary for Economic and Business Affairs.

[FR Doc. 2015-05467 Filed 3-6-15; 8:45 am]

BILLING CODE 4710-07-P